DEPARTMENT OF THE INTERIOR

Bureau of Land Management

[CA-339-04-1030-DR]

Notice of Availability of Record of Decision for the Headwaters Forest Reserve Resource Management Plan (RMP)/Environmental Impact Statement (EIS)

AGENCY: Bureau of Land Management, Interior.

ACTION: Notice of availability of Record of Decision (ROD).

SUMMARY: In accordance with the National Environmental Policy Act (NEPA), the Federal Land Policy and Management Act (FLPMA), the Bureau of Land Management (BLM) management policies and Public Law 105-83 (Headwaters authorizing legislation), the BLM announces the availability of the RMP/ROD for the Headwaters Forest Reserve located in Humboldt County, Arcata, California. The California State Director will sign the RMP/ROD, which becomes effective immediately.

ADDRESSES: Copies of the Headwaters Forest Reserve RMP/ROD are available upon request from the Field Manager, Arcata Field Office, Bureau of Land Management, at 1695 Heindon Road Arcata, California 95521-4573 or via the Internet at www.ca.blm.gov/arcata.

FOR FURTHER INFORMATION CONTACT: Dan Averill, at 1695 Heindon Road, Arcata, California 95521-4573, or phone number: 707-825-2300, or Daniel_Averill@ca.blm.gov.

SUPPLEMENTARY INFORMATION: The Headwaters Forest Reserve RMP/ROD was developed with broad public participation through a three (3)-year collaborative planning process. This RMP/ROD addresses management on approximately 7500 acres of public land in the planning area, which was acquired through Congressional designation in 1999 by the BLM and the State of California with the U.S. Department of Interior (DOI) acquiring fee title and the State of California acquiring a conservation easement over the property. These public lands, known as the Headwaters Forest Reserve, are managed to protect old-growth redwoods and the headwaters of two major stream systems. The Reserve provides critical habitat for several terrestrial and aquatic wildlife species including five species federally listed as threatened: Coho salmon, chinook salmon, steelhead trout, marbled murrelet (a threatened seabird) and the northern spotted owl.

The RMP presents management goals and direction for long-term management of the Reserve. The plan addresses future management actions at the land-use plan, program, and site level and analyzes the extent and magnitude of several types of actions, such as watershed restoration, forest restoration, and development of limited recreation facilities, including a trail system allowing public access.

The approved Headwaters Forest Reserve RMP consists of essentially the same array of selected alternatives that was identified in the Proposed Headwaters Forest Reserve RMP/Final Environmental Impact Statement (PRMP/FEIS), published in September 2003. BLM received 79 protests to the PRMP/FEIS. No inconsistencies with State or local plans, policies, or programs were identified during the Governor's consistency review of the PRMP/FEIS and no editorial modifications were made in preparing the RMP/ROD.

Mike Pool,
California State Director.

[FR Doc. 04-14724 Filed 6-28-04; 8:45 am]

BILLING CODE 4310-40-P